DEPARTMENT OF COMMERCE

National Oceanic and Atmospheric Administration

50 CFR Part 648

[Docket No. 030314059-3059-01; I.D. 030603B]

RIN: 0648-AQ48

Fisheries of the Northeastern United States; Northeast Multispecies Fishery; Small Mesh Multispecies Fishery; Northeast Multispecies Fishery Management Plan

AGENCY: National Marine Fisheries Service (NMFS), National Oceanic and Atmospheric Administration (NOAA), Commerce.

ACTION: Advance notice of proposed rulemaking; notice of a new control date for the purpose of controlling entry in the small-mesh multispecies fishery.

SUMMARY: NMFS announces that it is considering, and is seeking public comment on, proposed rulemaking to control future access to the small mesh multispecies (silver hake, Merluccius bilinearis; red hake, Urophycis chuss; offshore hake, Merluccius albidus) resources if a management regime is developed and implemented under the Magnuson-Stevens Fishery Conservation and Management Act (Magnuson-Stevens Act) that limits the number of participants in the fishery. This announcement is intended, in part, to promote awareness of potential eligibility criteria for future access to the small mesh multispecies fishery and to discourage speculative entry into the fishery while the New England Fishery Management Council (Council) and NMFS consider whether and how access to the small-mesh multispecies fishery should be controlled. The date of publication of this document, March 25, 2003, shall be known as the “control date” and may be used for establishing eligibility criteria for determining levels of future access to the small mesh multispecies fishery subject to Federal authority. Participants who enter the small mesh multispecies fishery on or after March 25, 2003 may be treated differently than those with a history in the fishery before this date. The establishment of this control date does not prevent any other control date for eligibility in the fishery or another method of controlling access and/or fishing effort on small mesh multispecies from being proposed and implemented by the Council and NMFS.

DATES: Written comments must be received on or before 5:00 p.m., local time, April 24, 2003.

ADDRESSES: Written comments should be sent to Paul Howard, Executive Director, New England Fishery Management Council, 50 Water Street, Mill 2, Newburyport, MA 01950. Mark the outside of the envelope, “Comments on Small Mesh Multispecies Control Date.” Comments also may be sent via facsimile (fax) to (978) 465-3116. Comments will not be accepted if submitted via e-mail or the Internet.

FOR FURTHER INFORMATION CONTACT: E. Martin Jaffe, Fishery Policy Analyst, 978-281-9272.

SUPPLEMENTARY INFORMATION: A control date for the silver hake, offshore hake, and red hake fisheries was established on September 9, 1996 (61 FR 47473), to promote awareness of potential eligibility criteria for future access to the small mesh fishery and to discourage new entry into the fishery. The Council used this control date to develop a proposed limited access program for this fishery included in Amendment 12 to the Northeast Multispecies Fishery Management Plan (FMP), a management program for small mesh multispecies that was implemented on April 28, 2000. The Amendment 12 limited access program for small mesh multispecies was later disapproved by NMFS because it was found to be inconsistent with some of the requirements of the Magnuson-Stevens Act. As a result, the small mesh multispecies fishery remains an open-access fishery.

The Council intends to develop a new amendment to address limited access in the small- mesh multispecies fishery. The Council is concerned that conditions have changed sufficiently in this fishery to make the September 1996 control date an unreliable indicator of current participation. A new control date would reflect current participation levels, should the Council require such a benchmark when developing a new limited access program.

The Whiting Monitoring Committee (WMC) recommended that the Council consider establishing a new control date for small mesh multispecies because circumstances in Northeast fisheries have changed since the establishment of the September 1996 control date. Amendment 5 to the FMP prevented fishing with small mesh in the northern stock area until exempted fisheries could be established that reduce the bycatch of regulated multispecies to less than 5 percent. Since implementation of Amendment 5 in 1994, experimental and exempted fisheries for small mesh multispecies in the northern stock area have evolved through cooperative experimentation, gear research, and gear technologies that significantly reduce bycatch of non-target species, especially regulated multispecies. Many of these technologies took years to develop and, as a result, the 1996 control date does not capture current levels of participation or fishing practices in the small mesh multispecies fishery, especially in the northern stock area. Therefore, it is unlikely that the Council would utilize a dated control date in the development of a new limited access program for small mesh multispecies. A new control date is more likely to be utilized in a limited access program because it would capture current participation in the small mesh multispecies fishery and provide a more suitable benchmark.

This notice establishes March 25, 2003 as the new control date for potential use in determining historical or traditional participation in the small mesh multispecies fishery. Consideration of a control date does not commit the Council or NMFS to develop any particular management regime or criteria for participation in this fishery. The Council or NMFS may choose a different control date, or may choose a management program that does not make use of such a date.

Fishermen who have not participated in the small mesh multispecies fishery or change their level of participation in this fishery are notified that entering this fishery or changing their level of participation after this control date may not qualify them as previous participants, should such a criterion be the basis for future access to the small mesh multispecies resources. Fishermen are not guaranteed future participation in the fishery, regardless of their entry dates or intensity of participation in this fishery before or after the control date. The Council and NMFS may choose to give variably weighted consideration to fishermen active in the fishery before and after the control date. The Council and NMFS may also choose to take no further action to control entry or access to the fishery, in which case the control date may be rescinded. Any action by the Council or NMFS will be taken pursuant to the requirements for FMP development established under the Magnuson-Stevens Act.

Establishing a new control date for the small mesh multispecies fishery may help to discourage an influx of new participants as a short-term response to the restrictions expected to be implemented under Amendment 13 to the FMP. This could aid in preventing rapid stock declines and help keep the fishery viable for current and historical participants. The 2002 Stock Assessment and Fishery Evaluation Report, prepared by the WMC, expressed concern that effort may increase in the small mesh multispecies fishery as a result of increasing restrictions in other fisheries, such as the large mesh multispecies (groundfish) fishery, which are currently under development by the Council.

This notification also gives the public notice that interested participants should locate and preserve records that substantiate and verify their participation in the small mesh multispecies fishery in Federal waters.

Authority: 16 U.S.C. 1801 et seq.

Dated: March 19, 2003.
Rebecca Lent,
Deputy Assistant Administrator for Regulatory Programs, National Marine Fisheries Service.

[FR Doc. 03-7068 Filed 3-24-03; 8:45 am]

BILLING CODE 3510-22-S